DEPARTMENT OF VETERANS AFFAIRS

Veterans' Advisory Committee on Rehabilitation, Notice of Meeting

The Department of Veterans Affairs (VA) gives notice under the Federal Advisory Committee Act, 5 U.S.C. App. 2, that a meeting of the Veterans' Advisory Committee on Rehabilitation (hereinafter the Committee) will be held virtually Wednesday, April 6 and Thursday, April 7, 2022, from 10:00 a.m. to 4:00 p.m. EST on both days. The meeting sessions are open to the public.

The purpose of the Committee is to provide advice to the Secretary of VA on the rehabilitation needs of Veterans with disabilities and on the administration of VA's Veteran rehabilitation programs. The Committee members will continue to receive briefings on employment programs and services designed to enhance the delivery of services for the rehabilitation potential of Veterans and discuss recommendations to be included in the Committee's following annual comprehensive report.

Although no time will be allocated for receiving oral presentations from the public, members of the public may submit written statements for review by the Committee to Latrese Thompson, Designated Federal Officer, Veterans Benefits Administration (28), 810 Vermont Avenue NW, Washington, DC 20420, or via email at Latrese.Thompson@va.gov. In the communication, writers must identify themselves and state the organization, association, persons or persons they represent.

For any members of the public who wish to attend virtually, please use the Microsoft Teams Meeting link: https://teams.microsoft.com/l/meetup-join/19%3ameeting_YjZmZmIyZDAtYzFlYi00OGUxLTk3ZTMtNDhmN2IyMWRjMjlk%40thread.v2/0?context=%7b%22Tid%22%3a%22e95f1b23-abaf-45ee-821d-b7ab251ab3bf%22%2c%22Oid%22%3a%228252bbc1-b123-48c8-aa1c-6f43c7d548c7%22%7d.

Or call in (audio only) +1 872-701-0185, 377848130# United States, Chicago.

Phone Conference ID: 377 848 130#.

Dated: March 2, 2022.
LaTonya L. Small,
Federal Advisory Committee Management Officer.

[FR Doc. 2022-04730 Filed 3-4-22; 8:45 am]

BILLING CODE P